DEPARTMENT OF LABOR

Employment and Training Administration

Youth Development Practitioner Apprenticeship Implementation Grants

AGENCY: Employment and Training Administration (ETA), Labor.

ACTION: Notice of availability of funds and Solicitation for Grant Applications (SGAs).

This notice contains all of the necessary information and forms needed to apply for grant funding.

SUMMARY: The U.S. Department of Labor (DOL), Employment and Training Administration (ETA), announces competitive grants to be awarded under the Youth Development Practitioner Apprenticeship initiative. This initiative targets incumbent and prospective professional youth workers working directly with young people. The funding available for these grants is $1.45 million dollars and includes three distinct categories for application and award. The three categories are: (1) Funds for Local Intermediaries to Support Local Youth Program Service Operators in the Implementation of Apprenticeship Programs, (2) Grants to National Organizations, and (3) Provider of Technical Assistance on Practice and Curriculum Materials. An applicant can apply for more than one category of grant.

DATES: The closing date for receipt of applications is Friday, May 11, 2001. Applications must be received by 4:00 p.m. (Eastern Daylight Savings Time) at the address below. No exceptions to the mailing and hand-delivery conditions set forth in this notice will be granted. Applications that do not meet the conditions set forth in this notice will not be honored. Telefacsimile (FAX) applications will not be honored.

ADDRESSES: Applications must be mailed to: U.S. Department of Labor, Employment and Training Administration, Division of Federal Assistance, Attention: Mamie Williams, Reference: SGA/DFA 01-103, 200 Constitution Avenue, NW., Room S-4203, Washington, DC 20210.

Note: Your application should specify on the cover which category you are applying for: 1, 2 or 3.

Hand Delivered Proposals. If proposals are hand delivered, they must be received at the designated address by 4:00 p.m., Eastern Daylight Time on Friday, May 11, 2001. All overnight mail will be considered to be hand delivered and must be received at the designated place by the specified closing date and time. Telegraphed, e-mailed and/or fax proposals will not be honored. Failure to adhere to the above instructions will be a basis for determination of non-responsive.

Late Proposals. A proposal received at the designated office after the exact time specified for receipt will not be considered unless it is received before the award is made and it:

• Was sent by U.S. Postal Service registered or certified mail not later than the fifth day (5th) calendar day before the closing date specified for receipt of applications (e.g. an offer submitted in response to a solicitation requiring receipt of applications by the 20th of the month must be mailed by the 15th):

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service and on the original receipt from the U.S. Postal Service. The term “post marked” means a printed, stamped, or otherwise placed impression (exclusive of a postage meter machine impression) that is readily identifiable without further action as having been supplied or affixed on the date of mailing by employees of the U.S. Postal Service.

Withdrawal of Applications. Applications may be withdrawn by written notice or telegram (including mailgram) received at any time before an award is made. Applications may be withdrawn in person by the applicant or by an authorized representative thereof, if the representative's identity is made known and the representative signs a receipt for the proposal.

FOR FURTHER INFORMATION CONTACT: Questions should be faxed to Mamie Williams at 202-693-2879, (this is not a toll-free number). All inquiries should include the SGA/DFA number 01-103, and a contact name, fax and phone numbers. This announcement will also be published on the Internet on the Employment and Training Administration's Home Page at http://www.doleta.gov. Award notifications will also be published on the Home Page.

SUPPLEMENTARY INFORMATION:

A. Authority

Section 171 of the Workforce Investment Act authorizes the use for demonstration program funds appropriated under section 174(b) for the purpose of developing and implementing techniques and approaches, and demonstrating the effectiveness of specialized methods, in addressing employment and training needs. Section 171(d) of the Workforce Investment Act authorizes the use for dislocated worker demonstration programs of funds reserved under section 132(a)(2)(A) and establishes the administration of these funds by the Secretary for that purpose under section 173(b). DOL FY 2000 Appropriations Act, enacted November 17, 1999, authorizes dislocated worker demonstration projects that provide assistance to new entrants in the workforce and incumbent workers. Apprenticeship programs are authorized by The National Apprenticeship Act of 1937 Fitzgerald Act), Public Law 75-308 and clarified in Title 29, Code of Federal Regulations Part 29.

B. Background

This section describes the context for this initiative aimed at developing and supporting apprenticeship programs for professional youth workers.

The enactment of the Workforce Investment Act (WIA) provides a unique opportunity to strongly impact the youth workforce development system. WIA moves away from short-term, largely summer employment opportunities to longer-term more comprehensive services to eligible youth. The focus is on assisting young people to acquire the skills and competencies that they need to successfully transition to adulthood, careers and further education and training.

Youth development recognizes that young people need a range of supports and opportunities for learning and for growth over a long period of time. Services under a youth development approach include opportunities for leadership development, basic supportive services as well as academic and occupational skills training and work experiences.

This emphasis upon youth development along with its authorization of the new Youth Opportunity Grants (YOGs), a $250 million investment, represents an unparalleled alignment of resources committed to youth programming. We anticipate that the roll out of the YOGs alone will result in approximately 1,500 front-line staff positions nationwide.

Success in delivering the extensive services outlined by WIA depends not only on the quality of program design, but on the delivery of services to youth by front-line staff. WIA legislates a different approach to serving young people. The law places youth development principles at the heart of serving youth. The strategy requires comprehensive services and moves from short-term interventions to a systematic, consolidated approach geared toward long-term workforce preparation. Because youth services operate at the local level and are implemented by front-line youth workers, the role of youth workers is critical. Youth workers develop relationships with young people and provide crucial expertise and support to youth as they transition to adulthood and careers.

While WIA is the driving force behind our movement to create a youth worker occupation and apprenticeship, we see broad applicability for working with young people regardless of the funding source. Our vision over time is that this will be embraced throughout the field of youth work and will encourage more young adults to pursue youth work as a career. The long-term success of the youth workforce development system requires a human capital strategy. We are seeking to upgrade the field of youth work through accreditation, training opportunities, apprenticeship and certification.

C. The Youth Development Practitioner Apprenticeship Initiative

This initiative targets youth workers, those professionals who work or will work in youth programs delivering services to young people as front-line staff. The vision of occupation recognition and apprenticeship for youth workers is to provide quality training opportunities for youth workers who deliver comprehensive services to young people in order to maximize our investment in young people, in youth programming and in the workforce development system. There are two major goals for achieving occupation recognition and apprenticeship for Youth Development Practitioners. The first seeks to strengthen the field of youth work by providing training, mentoring and a career path for incumbent and prospective youth workers and, consequently, improve retention in the field. Secondly, this undertaking attempts to improve the quality of youth services by providing training standards; upgrading incumbent youth worker skills by increasing the number of youth workers who receive extensive, quality training; and increasing the stability of programs by helping to retain caring adult staff.

Registered apprenticeship provides a vehicle to meet the goals outlined above. It provides an effective time-honored way to build a skilled, knowledgeable and loyal workforce. The combination of structured OJT and related technical instruction will offer Youth Development Practitioners a recognizable career path that includes high quality training and educational opportunities, while offering the field recognizable occupational standards. It also provides for recognition through the issuance of a nationally recognized Certificate of Completion.

The strategy pursued to recognize the occupation and develop the apprenticeship focused on creating an inclusive, far-reaching process that utilized and acknowledged the impressive work that already exists in the field. The process began with drafting on-the-job training (OJT) and related instruction from curriculum and materials gathered from individuals and groups working in the field. A focus group of practitioners and advocates was convened to review the OJT and related instruction prior to sending it out for initial comment. Forums were then held in each of the Employment and Training Administration's Regions and one in Washington DC to discuss apprenticeability of this occupation and included extensive input regarding the OJT and related instruction. A broad array of stakeholders was included in these forums. The concept of apprenticeship for youth workers received enthusiastic support.

The Office of Apprenticeship Training, Employer and Labor Services (OATELS) reviewed the final round of comments and created a final draft of the OJT and related instruction that was submitted to the administrator of OATELS to determine apprenticeability. The occupation was approved as apprenticeable and was formally established as an apprenticeship occupation on October 27, 2000. Information on this new apprenticeship occupation has been disseminated to both the apprenticeship community and the workforce development system. The notice announcing the recognition of the occupation, including further information on training plan and related instruction is contained in Training and Employment Information Notice No. 8-00 (includes Vision Paper, On-The-Job Training and Related Instruction) and is an appendix to this SGA.

The Department of Labor will continue to disseminate information and publicize the Youth Development Practitioner occupation and apprenticeship. OATELS will begin the process to establish National Guideline Standards. The purpose of these grants are to support the dissemination of information, to publicize the occupation and apprenticeship, and to support interested communities in the implementation of apprenticeship programs. These funds are intended to stimulate, seed and support the broad implementation of these apprenticeship programs. The Department plans to award grants under three different categories: (1) to organizations or entities at the local community level that can serve as “intermediaries” to bring together stakeholders to establish and register apprenticeship programs; (2) to national organizations that have affiliate youth programs which employ youth development practitioners for outreach and capacity-building; and (3) to an organization or entity to establish a clearinghouse of information on practice and curriculum guides to support local communities in developing and implementing apprenticeship programs. Details for applying under each category are described below. Note that a national organization is also eligible to apply for a category one or three grant.

Grant Categories

Category One: Funds for Local Intermediaries to Support Local Youth Program Service Operators in the Implementation of Apprenticeship Programs

We intend to support the development and registration of apprenticeship programs at the local level by supporting an organization or entity to serve as an “intermediary” in a local area to bring together and provide technical assistance to potential apprenticeship program sponsors and providers of related training to develop apprenticeship training programs. Possible intermediaries include, but are not limited to, community-based organizations, employer organizations or employer consortiums, community colleges and other post-secondary institutions and other organizations in the field. We also intend to ensure that local Boards and Youth Councils are engaged to support registered apprenticeship programs for youth development practitioners as part of the youth portion of the local area's Workforce Investment Plan.

Local youth program service providers (program sponsors) tend to be relatively small employers that are supported by government, foundation and/or contributions from the public or from membership fees. Their capacity to train staff varies greatly depending upon factors such as size of the program, length of operation and whether they are affiliated with a national program or organization. Programs with national affiliations are much more likely to have organized and well-established training programs for new staff. Front-line staff at the Department's Youth Opportunity Grant sites are trained through a combination of local efforts and the nationally-sponsored Youth Opportunity Grant Leadership Institute. Programs that are run by independent, small community-based organizations are less likely to have the capacity to provide for formal training for new youth development practitioner staff.

Regardless of size, funding source, and/or national affiliation, we believe that local youth program operators can benefit from using registered apprenticeship programs to train its front-line youth development practitioner staff. The extent to which programs will need technical assistance in establishing programs will vary greatly depending upon their existing capacity to provide the on-the-job training and the related instruction. There also may be benefit in bringing an established consortium of local program operators for the purpose of organizing and delivering the related training and for providing training to journey level staff in the delivery and assessment of on-the-job training.

Local Youth Councils were created under WIA to coordinate youth activities in the local area. As determined by the Local Workforce Investment Board, Youth Councils may also advise the Local Board on the selection of eligible providers of youth activities in the area, develop the youth portion of the local workforce investment plan, oversee the quality of youth services provided under WIA, and other duties. Youth councils are comprised of representatives of the Local Board and other members of the community who have an interest or expertise in youth services. Registered apprenticeship is an element of youth service delivery and, accordingly, Youth Councils can play a role in supporting the implementation of registered apprenticeship programs through their policies and recommendations to the Local Board.

Outcomes

Funded intermediaries are responsible for:

• Establishment of the Youth Development Practitioner registered apprenticeship program;

• Recruitment and retention of participating programs;

• Coordination with local Boards and Youth Councils;

• Establishment of a career path for apprentices including additional credentialing and necessary articulation agreements with post-secondary institutions; and

• Development of a mechanism for evaluation of activities undertaken that includes measurable results of impact;

Specific activities to achieve these outcomes, undertaken in conjunction with the services of an Apprenticeship and Training Representative (the local Apprenticeship and Training Representative (ATR), a field employee of the Employment and Training Administration of the Department of Labor, provides technical assistance in the promotion, development and servicing of registered apprenticeship programs with qualified sponsors), under this grant include:

• Develop, articulate and implement a vision of a sustainable local infrastructure built upon successful registered apprenticeship and best practice models;

• Developing a recruitment and retention plan for participating programs and their apprentices;

• Engaging the local Boards and Youth Councils and working with Youth Council members to establish and promote implementation of policy for the use of registered apprenticeship;

• Convening local youth program operators for the purpose of outreach, sharing of practice, technical assistance and training of journey level staff for delivery and assessment of on-the-job training;

• Convening community advisory group to guide the implementation of this apprenticeship;

• Working with local providers of related instruction, particularly community colleges to identify potential sources of related instruction;

• Providing technical assistance in identifying and insuring the availability of instructors who are knowledgeable and experienced in the delivery of the related instruction course work;

• Developing a process to promote career ladder for those graduates of the registered apprenticeship system (i.e. articulation into an Associates Degree or higher);

• Demonstrating in-kind support from institutions involved in the process (i.e. time spent to facilitate and foster the process and/or free facilities to conduct related instruction);

• Developing and implementing a strategy or strategies to ensure inclusion of practitioners representing diversity of culture, ethnicity, gender as well as inclusion of persons with disabilities;

• Developing, through the local Board and Youth Council, policies and procedures to ensure consistency and integrity of system implementation and beyond;

• Developing, as an outreach strategy, a pre-apprenticeship program in secondary school(s) that would articulate to a post-secondary program;

• Defining, setting and documenting measurable goals or benchmarks for grant activities; and

• Documenting processes, lessons learned and effective practices for dissemination.

Category Two: Grants to National Organizations

We intend to support the development and registration of apprenticeship programs at the national and local level by supporting the broad implementation of the Youth Development Practitioner apprenticeship initiative by a national organization among its local affiliates. A goal of this grant award is to broadly seed apprenticeship programs across the workforce development system. Preference will be given to national organizations that are able to demonstrate an ability to broadly implement apprenticeship program participation within their organization and geographically. The national organization will develop a Youth Development Practitioner apprenticeship program for their local affiliates. Additionally, they will recruit, coordinate and provide technical assistance to facilitate affiliate participation and provide ongoing support.

Many employers are reluctant to support registered apprenticeship because they see no direct financial benefit or because they lack the capacity to train to the program standards. Youth program service providers, in particular, may be reluctant to embrace this form of training because of capacity or lack of understanding about the benefits of registered apprenticeship. They need to be convinced and know that they will have support in implementing programs.

Thousands of local youth program service providers are affiliated with a national organization. This affiliation may take a number of forms. For example, a program may be a local chapter of a national organization that provides a range many types of community services, including youth programs. In addition, there are other national organizations that provide technical assistance and support to a local youth program provider but do not have local program affiliates.

National organizations that are directly connected to local youth program providers can be of assistance in conducting outreach and in providing assistance to their members or affiliates in implementing registered Youth Development Practitioner apprenticeship programs.

Outcomes

Funded National Organizations are responsible for:

• Coordinating broad implementation of registered Youth Development Practitioner apprenticeship programs among affiliates or members;

• Establishing an infrastructure within the national organization that provides ongoing support to participating programs, provides access to necessary training, coordinates outreach and recruitment, conducts evaluation, disseminates information including promotional materials, best practices and lessons learned, and monitors retention;

• Establishing a career path for apprentices including additional credentialing and necessary articulation agreements with post-secondary institutions; and

• Developing a mechanism for evaluation of activities undertaken that includes measurable results of impact.

Activities that may be supported under this grant include:

• Development of a sustainable infrastructure and an oversight or advisory body to provide direction and guidance;

• Development of an outreach/communication plan to promote the apprenticeship and encourage broad affiliate participation;

• Development and dissemination of information materials on registered youth development practitioner programs;

• Identification of relevant curriculum for delivery of related instruction;

• Development of a recruitment and retention plan for participating apprentices and programs;

• Convening local youth program operators for the purpose of outreach, sharing of practice, technical assistance and training of journey level staff for delivery and assessment of on-the-job training;

• Adoption of or establishment of a train-the-trainer system that will ensure the availability of knowledgeable, experienced skilled instructors for delivery of on-the-job training and related instruction course work;

• Delivery of related instruction;

• Development of a process to promote career ladder for those graduates of the registered apprenticeship system (i.e., articulation into an Associates Degree or higher);

• Identification and dissemination of information on practice

• Defining, setting and documenting measurable goals or benchmarks for grant activities; and

• Documenting processes, lessons learned and effective practices.

Category Three: Provider of Technical Assistance on Practice and Curriculum Materials and Creation of National Clearinghouse

We intend to support the development and registration of apprenticeship programs at the national level by supporting an organization or entity to serve as a provider of technical assistance who will provide technical assistance on practice and curriculum as well as develop a plan for technical assistance outreach. The provider will establish a national clearinghouse to make all relevant materials (OJT and related instruction and other relevant information to this initiative) and best practices available. Additionally, it is expected that the awardee of this category will develop or adapt curriculum to fulfill the outlined related instruction of the Youth Development Practitioner Apprenticeship (see Appendix C of this document).

The Youth Development Practitioner apprenticeship requires related instruction to supplement the on-the-job training. The related instruction outline provides a suggested total of 343 hours of classroom instruction. The related instruction falls under three areas: Core Skills; Workforce Development Skills; and Administrative Skills. There is no presumed provider of related instruction although community colleges are a primary source of related instruction. Community colleges already are one of the leading providers of related instruction for apprenticeship programs through credit and non-credit course instruction. We also expect that the Youth Opportunity Grant Leadership Institute will provide a substantial amount of the related instruction for staff at the Department's Youth Opportunity grant sites.

We expect that existing institutions and training providers will build upon their existing course offerings to provide the related instruction and may also develop new courses of instruction. In developing, refining and enhancing existing related instruction, training providers can benefit from access to existing curriculum materials and practice. Accordingly, we plan to test whether it is feasible and practical for a qualified applicant to assist local related training providers by providing them with information on practice and curriculum materials that directly supports the delivery of related instruction. It is intended that this assistance will enable training providers in putting together quality program instruction that addresses the related training outline, supports adult learning, provides methodology for assessing attainment of knowledge and skills and uses interactive techniques for learning. Coordination with representatives from post-secondary institution associations and organizations is required to promote the program and ensure the ability of local programs to enter into articulation agreements that support the opportunity for additional credentialing. These grantees will be responsible for the dissemination of lessons learned and best practices from grant awardees in category one and two of this SGA.

We are interested in innovative approaches to providing technical assistance and also, particularly interested in supporting an existing training provider that already has substantially developed and delivered the course work that is outlined in the related instruction guide. We recognize that the funds available will not support new curriculum development, rather they will support dissemination and technical assistance of existing curriculum and course information.

Finally, we expect the grantee to actively participate in and support the formation of National Guideline Standards for the Youth Development Practitioner Occupation with OATELS.

Outcomes

• Develop and coordinate the implementation of both curriculum for related instruction and an outreach plan for its dissemination;

• Serve as a clearinghouse of materials and information for related instruction and the dissemination of lessons learned and best practices in developing Youth Development Practitioner apprenticeship programs;

• Develop a mechanism for evaluation of activities undertaken that includes an examination of the usage of curriculum materials you provide; and

• Work with OATELS to develop National Guideline Standards for the Youth Development Practitioner Occupation with OATELS.

Eligible Applicants

Eligible applicants for these grants are not-for-profit organizations, established under Section 501(c)(3) of the Internal Revenue Code, a public post-secondary educational institution, a Job Corps center (no fee/profit allowed), an entity of local government, or a local Workforce Investment Board. Any application that is received under Category 1 (Supporting local program operators in implement youth practitioner apprenticeship programs) must have the endorsement of the chair of the local Workforce Investment Board's Youth Council. This endorsement may be in a letter of support.

Eligible applicants applying under more than one grant category must submit a separate application for each grant category.

Note: Except as specifically provided, DOL/ETA acceptance of a proposal and an award of federal funds to sponsor any program(s) does not provide a waiver of any grant requirements and/or procedures. For example, the OMB circulars require an entity's procurement procedures must require that all procurement transactions shall be conducted, as practical, to provide open and free competition. If a proposal identifies a specific entity to provide the services, the DOL/ETA's award does not provide the justification or basis to sole-source the procurement, i.e., avoid competition.

Number and Amount of Grant Awards

It is anticipated that grants will be awarded by category as follows: Category 1—Supporting local community implementation—up to 9 grants in amounts ranging approximately between $75,000—$100,000; Category 2—Supporting national organization outreach and technical assistance—to 4 grants, in amounts ranging approximately between $100,000—$125,000; and Category 3—Technical assistance on practice and curriculum guides—one award for the clearinghouse activities in an amount ranging approximately between $225,000—$250,000.

Period of Performance

Grant awards will be made for a period of 18 months from the date of execution.

Application Submittal

Applicants must submit four (4) copies of their proposal with original signatures. The proposal must consist of two (2) distinct parts, Part I and Part II. Part I of the proposal, the financial application, shall contain the Standard Form (SF) 424, “Application for Federal Assistance” (Appendix A) and the Budget Information Form (Appendix B). The Catalog of Federal Domestic Assistance Number (CFDA) is 17.268. Applicants shall indicate on the SF 424 the organization's IRS status, if applicable. According to the Lobbying Disclosure Act of 1995, section 18, an organization described in section 501(c)(4) of the Internal Revenue Code of 1986 which engages in lobbying activities shall not be eligible for the receipt of federal funds constituting an award, grant, or loan. The individual signing the SF 424 on behalf of the applicant must represent the responsible financial and administrative entity for a grant should that application result in an award. The budget must include, on a separate page, a detailed breakout of each line item.

Part II—Project Narrative—will be the technical proposal, including attachments, not to exceed 20 double-spaced pages in 12 pitch type. This must be organized to follow the evaluation criteria.

Review Process

A careful evaluation of applications will be made by a technical review panel who will evaluate the applications against the established criteria listed below. The panel results are advisory in nature and are not binding on the Grant Officer. The Government may elect to award the grant with or without discussions with the offeror. In situations without discussions, an award will be based on the offeror's signature on the SF 424, which constitutes a binding offer. All applications must include the required elements. Final award decisions will be based on the best interests of the government, including consideration of geographic area and variety among types of organizations awarded grants.

Evaluation Criteria

Category One: Funds for Local Intermediaries to Support Local Youth Program Service Operators in the Implementation of Apprenticeship Programs

(1) Capacity of the organization to provide the services and implement the plan of activity. (30 points)

—What experience does the organization have in providing youth program services and promoting youth development?

—What kinds of related experience does the organization have that qualifies them to serve in this “intermediary” capacity under this grant?

—What is the capacity of the organization to deliver technical assistance to “potential” local youth program providers?

—What is the market for youth development providers in the geographic area served?

(2) Quality and soundness of plan (40 points)

—What specific activities will be undertaken and how will they result in the establishment of registered apprenticeship programs? Present a time line of these activities.

—Identify participating partners and their roles and responsibilities in the plan. How will key stakeholders be utilized in the implementation of your plan? What has been done to secure their support and participation thus far? (Include discussion of an advisory board)

—How will you create an ongoing career path with additional credentialing opportunities?

—What is the plan for involving the local Apprenticeship and Training Representative?

—How will the intermediary evaluate the activities undertaken and measure the impact of the program? (include proposed data to be collected and how it will be assessed)

(3) Sustainability: (30 points)

—How will this effort be supported beyond federal funding? Provide a chart that delineates specific resources [both monetary and other types of resources (staff, facilities, etc.)] that will contribute to sustainability of this project as well as how these resources will be coordinated.

—What is the local infrastructure that supports sustainability? Identify the stakeholders in the local community that would have an interest in continuing to support registered apprenticeship.

—How will the local Board and Youth Council be engaged? What is the proposed role of the local Board and Youth Council in providing oversight?

Category Two: National Organizations

(1) Experience and capacity of the organization to reach, influence and support local youth program providers in development of registered apprenticeship programs. (35 points)

—Provide organization information: What is the mission of the organization? How many affiliate members are part of this organization and where are they located?

—What is the relationship of the national organization to its affiliates or members? How does the organization communicate with its members? What are examples of technical assistance provided to local affiliates or members?

—What existing and new partnerships will be utilized to increase the capacity of the organization to implement apprenticeship programs?

(2) Soundness and quality of plan of activity. (35 points)

—Delineate the specific activities proposed to support the development of registered apprenticeship programs and their time lines. (address reasonableness of time lines presented)

—Outline strategies to mobilize interest among affiliates (beyond dissemination efforts) and replicate Youth Development Practitioner apprenticeship programs?

—Describe the infrastructure that will be developed to provide ongoing support to participating affiliates.

—How will a career path be created for additional credentialing?

—How will the organization evaluate the activities undertaken and measure the impact of the program? (include data to be collected)

(3) Commitment and plans for sustaining support after federal grant has ended. (30 points)

—Provide a chart that delineates specific resources [including monetary and other types of resources (staff, facilities, etc.)] that will contribute to the sustainability of this project as well as how these resources will be coordinated. Include the organization's resources and external partnership commitments. Identify additional partnerships that will be pursued.

—How will activities to promote and support registered apprenticeship be incorporated into ongoing activities of the organization? How will the infrastructure for continuing to provide support be sustained after funding has ended?

—How will promising practices of affiliates or members be disseminated on an ongoing basis?

Category Three: Provider of Technical Assistance on Practice and Curriculum Materials and Creation of National Clearinghouse

(1) Capability of the organization in related areas. (30 points)

—What is the capacity of your organization to undertake this effort?

—Organization experience: Does the organization have experience in providing related training for apprenticeship and/or youth development programs?

—Provide evidence of staff experience in adult learning and youth development.

(2) Experience of the organization in delivering technical assistance. (35 points

—What course materials and curriculum are available for dissemination? Do these materials utilize a youth development framework? Are materials adaptable for this program and can these materials be readily accessed?

—What is the experience of the organization in delivering technical assistance? (include scope of previous technical assistance efforts and the technology utilized)

(3) Soundness and quality of plan of activity. (35 points)

—Explain how the plan is both innovative and realistic. (address reasonableness of time lines presented)

—How will outreach be conducted? How will potential users of this service beyond the organization's network be identified and incorporated?

—Describe methodologies to be used. Include a description of the role of technology. Do the materials and methodologies promote sustainability?

—How will curriculum materials, lesson learned and best practices be disseminated?

—How do you plan to structure and plan an evaluation of your activities and measure impact? (include data to be collected)

Signed at Washington, D.C., this 30th day of March, 2001.
Laura Cesario,
Grant Officer.

Appendix A

Application for Federal Assistance (Standard Form 424)

Appendix B

Budget Information Form

Appendix C

TEIN No. 8-00 (includes Vision Paper and OJT and Related Instruction)

Appendix D

Cover Sheet

BILLING CODE 4510-30-P

[FR Doc. 01-8283 Filed 4-3-01; 8:45am]

BILLING CODE 4510-30-C